DEPARTMENT OF ENERGY

[OE Docket No. EA-318-B]

Application To Export Electric Energy; AEP Energy Partners, Inc.

AGENCY: Office of Electricity Delivery and Energy Reliability, DOE.

ACTION: Notice of application.

SUMMARY: AEP Energy Partners, Inc. (AEPEP) has applied to renew its authority to transmit electric energy from the United States to Mexico pursuant to section 202(e) of the Federal Power Act (FPA).

DATES: Comments, protests, or motions to intervene must be submitted on or before February 9, 2012.

ADDRESSES: Comments, protests, or motions to intervene should be addressed to: Christopher Lawrence, Office of Electricity Delivery and Energy Reliability, Mail Code: OE-20, U.S. Department of Energy, 1000 Independence Avenue SW., Washington, DC 20585-0350. Because of delays in handling conventional mail, it is recommended that documents be transmitted by overnight mail, by electronic mail to Christopher.Lawrence@hq.doe.gov, or by facsimile to (202) 586-8008.

FOR FURTHER INFORMATION CONTACT: Christopher Lawrence (Program Office) at (202) 586-5260, or by email to Christopher.Lawrence@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On February 22, 2007 the Department of Energy (DOE) issued Order No. EA-318, which authorized CSW Power Marketing to transmit electric energy from the United States to Mexico for a five-year term using existing international transmission facilities. CSW Power Marketing changed its name to AEPEP. On June 27, 2007, DOE rescinded Order No. EA-318 and issued Order No. EA-318-A to AEPEP under the same terms and conditions as the previous authorization. That authority will expire on February 22, 2012. On December 19, 2011, AEPEP filed an application with DOE for renewal of the export authority contained in Order No. EA-318-A for a ten-year term.

The electric energy that AEPEP proposes to export to Mexico will be purchased on the wholesale market in addition to purchase agreements AEPEP has entered into with the coal-fired Oklaunion Unit No. 1 near Vernon, Texas and various wind farms in the state of Texas. The power and energy to be purchased by AEPEP will be surplus to the needs of the selling entities.

The existing international transmission facilities to be utilized by AEPEP have previously been authorized by Presidential permits issued pursuant to Executive Order 10485, as amended. In addition to facilities determined by DOE to be appropriate for open access transmission by third parties, AEPEP was also authorized to export using small radial block-loaded facilities at Redford and Presidio, Texas.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (385.214). Five copies of such comments, protests, or motions to intervene should be sent to the address provided above on or before the date listed above.

Comments on the AEPEP application to export electric energy to Mexico should be clearly marked with OE Docket No. 318-B. An additional copy is to be filed directly with Jay E. Jadwin, Chief Counsel, American Electric Power Service Corporation, 155 W. Nationwide Blvd., Suite 500, Columbus, OH 43215 AND Carolyn Y. Thompson, Jones Day, 51 Louisiana Avenue NW., Washington, DC 20001-2113.

A final decision will be made on this application after the environmental impacts have been evaluated pursuant to DOE's National Environmental Policy Act Implementing Procedures (10 CFR Part 1021) and after a determination is made by DOE that the proposed action will not have an adverse impact on the reliability of the U.S. electric power supply system.

Copies of this application will be made available, upon request, for public inspection and copying at the address provided above, by accessing the program Web site at http://energy.gov/node/11845 or by emailing Angela Troy at Angela.Troy@hq.doe.gov.

Issued in Washington, DC on January 4, 2012.
Brian Mills,
Director, Permitting and Siting, Office of Electricity Delivery and Energy Reliability.

[FR Doc. 2012-217 Filed 1-9-12; 8:45 am]

BILLING CODE 6450-01-P